DEPARTMENT OF TRANSPORTATION

Office of the Secretary

Aviation Proceedings, Agreements Filed the Week Ending May 23, 2009

The following Agreements were filed with the Department of Transportation under the Sections 412 and 414 of the Federal Aviation Act, as amended (49 U.S.C. 1383 and 1384) and procedures governing proceedings to enforce these provisions. Answers may be filed within 21 days after the filing of the application.

Docket Number: DOT-OST-2009-0123.

Date Filed: May 20, 2009.

Parties: Members of the International Air Transport Association.

Subject:

PSC/RESO/143 dated 6 February 2009.

Finally Adopted Resolutions & Recommended Practices r1-r44.

PSC/MINS/026 dated 6 February 2009.

Minutes.

Intended effective date: 1 June 2009.

Barbara J. Hairston,
Supervisiory Dockets Officer, Docket Operations, Alternate Federal Register Liaison.

[FR Doc. E9-12959 Filed 6-2-09; 8:45 am]

BILLING CODE 4910-9X-P